DEPARTMENT OF THE INTERIOR

Bureau of Land Management

[OR-025-1220-HS: G 01-156]

Temporary Motor Vehicle Closure; Three River Resource Area, Hines, OR

AGENCY: Bureau of Land Management (BLM), DOI.

ACTION: Notice of temporary motor vehicle closure on public land administered by the BLM, Burns District, Three Rivers Resource Area, Hines, Oregon.

SUMMARY: The following described public land in Harney County is being temporarily closed to the use of motorized vehicular traffic pursuant to 43 CFR 8364.1:

The closure applies to the following road segments:

The Skull Creek Road No. 7203-0-OO, from its junction with the Radar Hill County Road in the SW¼NE¼, Section 3, T. 23 S., R. 30 E., W.M. approximately 20 miles north to its junction with the Emigrant Crossing Road in NW¼NW¼, Section 33, T. 20 S., R. 29 E., W.M.

The Horton Mill Road No. 7208-0-CO, from its junction with Forest Road 47 in the SW¼SE¼, Section 6, T. 22 S., R. 29 E., W.M. approximately 4 miles east to its junction with the Skull Creek Road in the NW¼NW¼, Section 2, T. 22 S., R. 29 E., W.M.

The Moon Reservoir Road Nos. 7227-1-OO and 7227-1-AO, from its junction with the “OO” County Road in the SE¼SE¼, Section 15, T. 25 S., R. 28 E., W.M. approximately 7.5 miles northwest to gates leading into private land in the NW¼NW¼, Section 30, T. 24 S., R. 28 E., W.M. and the NE¼NW¼, Section 25, T. 24 S., R. 27 E., W.M.

All public land in Section 29, T. 23 S., R. 26 E., W.M. west of the Chickahominy Reservoir Access Road; south and west of the waterline of Chickahominy Reservoir; and north of U.S. Highway 20; and NE¼SW¼, Section 28, T. 23 S., R. 26 E., W.M. except that land in Chickahominy Campground, as gated and posted.

This closure is necessary to prevent damage to roads and adjacent resources during extremely wet springtime conditions. Unrestricted traffic during this time of year is creating excessive impacts to soil and vegetative resources resulting in erosion. Indiscriminate springtime off-road vehicle use also contributes to sedimentation of Chickahominy Reservoir. Additionally, funds are not readily available to routinely repair and maintain roads damaged by vehicular traffic.

DATES: This closure will take effect when wet conditions dictate and upon posting the land as closed to vehicular traffic. The closure will remain in effect until the soil conditions have dried sufficiently to prevent damage to the road and adjacent resources, as determined by the Authorized Officer.

Exemptions: Persons who are exempt from these rules include:

1. Any Federal, State, or local officer or employee in the scope of their duties, members of any organized rescue or fire fighting force in performance of an official duty.

2. Motorized watercraft or snowmobiles.

3. Other individuals in the possession of a written waiver or other authorization who, as determined by the Authorized Officer, have a demonstrated need to travel by motorized vehicle in the area being closed.

Supplementary Rules for Road Closure Area: Under 43 CFR 8364.1, the BLM will enforce the following rules on the public land within the road closure area, Three Rivers Resource Area, Burns District, Hines, Oregon. You must follow these rules:

1. You must not operate a motorized vehicle on a closed road or area.

2. You must obey all posted signs in a road closure area.

Penalties: The authority for this closure is found under section 303(a) of the Federal Land Policy and Management Act of 1976 (43 U.S.C. 1733(a)) and 43 CFR 8360.0-7. Any person who violates this closure may be tried before a United States Magistrate and fined no more than $1,000 or imprisoned for no more than 12 months, or both. Such violations may also be subject to the enhanced fines provided for by 18 U.S.C. 3571.

FOR FURTHER INFORMATION CONTACT: Requests for additional information should be directed to Fred McDonald, BLM, 28910 Hwy 20 West, Hines, Oregon 97738, phone (541) 573-4453.

Dated: July 17, 2002.
Joan M. Suther,
Three Rivers Resource Area Field Manager.

[FR Doc. 02-18956 Filed 7-25-02; 8:45 am]

BILLING CODE 4310-33-P